DEPARTMENT OF HEALTH AND HUMAN SERVICES

Health Resources and Service Administration

Advisory Committee on Heritable Disorders in Newborns and Children

AGENCY: Health Resources and Service Administration (HRSA), Department of Health and Human Services (HHS).

ACTION: Notice; correction.

SUMMARY: This notice announces a correction to the meeting announcement for a public meeting of the Advisory Committee on Heritable Disorders in Newborns and Children (ACHDNC), published in the Federal Register on January 22, 2018. The meeting has changed from a two-day meeting to a one-day meeting, to be held on Thursday, February 8, 2018. Agenda items have been updated and will include a final evidence-based review report on the spinal muscular atrophy (SMA) condition nomination for possible inclusion on the Recommended Uniform Screening Panel (RUSP). Following this report, the ACHDNC expects to vote on whether to recommend adding SMA to the RUSP to the Secretary of HHS. The agenda will also include presentation of a document on cutoff determinations and risk assessment methods used for dried bloodspot newborn screening. The Committee expects to vote on whether to support this document. The ACHDNC members will also consider a report on Quality Measures in Newborn Screening from the Follow up and Treatment Workgroup. HRSA will post the agenda two days prior to the meeting on the Committee's website: https://www.hrsa.gov/advisory-committees/heritable-disorders/index.html. Please note that agenda items are subject to changes as priorities dictate.

DATES: Thursday, February 8, 2018, from 8:30 a.m. to 3:00 p.m. ET (meeting time is tentative).

ADDRESSES: The address for the meeting is 5600 Fishers Lane, 5th Floor Pavilion, Rockville, MD 20857. Participants may also access the meeting through Webcast. Advanced registration is required. Please register online at http://www.achdncmeetings.org/ by 12:00 p.m. ET on February 5, 2018. Instructions on how to access the meeting via Webcast will be provided upon registration.

Please note that the 5600 Fishers Lane building requires security screening on entry. Visitors must provide a driver's license, passport, or other form of government-issued photo identification or they cannot enter the facility. Per the original meeting notice, non-US Citizens planning to attend in person had to provide additional information to HRSA by January 24, 2018, 12:00 p.m. Eastern Time.

FOR FURTHER INFORMATION CONTACT: Anyone requesting information regarding the ACHDNC should contact Ann Ferrero, Maternal and Child Health Bureau (MCHB), HRSA, in one of three ways: (1) Send a request to the following address: Ann Ferrero, MCHB, HRSA 5600 Fishers Lane, Room 18N100C, Rockville, MD 20857; (2) call 301-443-3999; or (3) send an email to: AFerrero@hrsa.gov.

Correction: Date and time of the ACHDNC's public meeting. The meeting will now be held on Thursday, February 8, 2018, from 8:30 a.m. to 3:00 p.m. ET.

Amy McNulty,
Acting Director, Division of the Executive Secretariat.

[FR Doc. 2018-02306 Filed 2-5-18; 8:45 am]

BILLING CODE 4165-15-P